DEPARTMENT OF LABOR

Employment and Training Administration

[TA-W-63,295]

Visteon Corporation Regional Assembly & Manufacturing LLC, Fuel Delivery—Climate Group Division, Concordia, MO; Notice of Negative Determination on Reconsideration

On September 4, 2008, the Department issued an Affirmative Determination Regarding Application for Reconsideration for the workers and former workers of the subject firm. The notice was published in the Federal Register on September 18, 2008 (73 FR 54171).

The initial investigation resulted in a negative determination based on the finding that imports of automotive fuel tanks did not contribute importantly to worker separations at the subject firm and no shift of production to a foreign source occurred.

The petitioner requested that workers of Visteon Corporation Regional Assembly & Manufacturing LLC, Fuel Delivery—Climate Group Division, Concordia, Missouri be considered eligible for TAA as a secondary affected company. The petitioner provided a list of TAA certified companies to which the subject firm allegedly supplied components during the relevant time period.

A company official was contacted to verify whether the subject firm supplied automotive fuel tanks to the companies and locations provided by the petitioner. The company official stated that Visteon Corporation Regional Assembly & Manufacturing LLC, Fuel Delivery—Climate Group Division, Concordia, Missouri did not directly sell to these certified locations and that these specific production facilities were not customers of the subject firm during the relevant time period. The Department conducted a further investigation and determined that none of the customers of the subject firm were certified eligible for TAA during the relevant time period.

Conclusion

After reconsideration, I affirm the original notice of negative determination of eligibility to apply for worker adjustment assistance for workers and former workers of Visteon Corporation Regional Assembly & Manufacturing LLC, Fuel Delivery—Climate Group Division, Concordia, Missouri.

Signed at Washington, DC, this 2nd day of October 2008.
Elliott S. Kushner,
Certifying Officer, Division of Trade Adjustment Assistance.

[FR Doc. E8-24125 Filed 10-9-08; 8:45 am]

BILLING CODE 4510-FN-P